Title 3—

The President

Proclamation 10165 of March 31, 2021

Month of the Military Child, 2021

By the President of the United States of America

A Proclamation

April marks the Month of the Military Child, when our Nation pays tribute to the resilience and tenacity of our military children; over 2 million active duty, National Guard, Reserve and children of veterans who did not make the choice to serve, but live each day supporting their brave parents. These young people live out the words of the poet John Milton, “they also serve who only stand and wait.” We see their service and thank them for it.

From a young age, children of service members sometimes endure long separations from their parents and shoulder the burdens of service. They spend holidays and milestones apart from those they love the most, or celebrate with only a short phone call or virtual chat from a faraway parent. This is something the First Lady and I have witnessed in our own lives, as our grandchildren experienced their father's deployment to Iraq.

Military children change schools up to nine times between the start of kindergarten and high school graduation. With each move, they grapple with difficult goodbyes and the challenge of making new friends. Although life in a military family can include exploring new places and exposure to other cultures and customs, it can also bring frustration and loneliness. During the Month of the Military Child, we show our appreciation for the commitment and service of military children in shouldering these challenges, and we recognize the stressors on military children brought about by the unique demands of their parents' military life.

The strength of our Armed Forces comes not just from those who wear the uniform, but from their families, who also serve on behalf of our country. As a Nation, we have many obligations, but we have only one truly sacred obligation: to properly prepare and equip our troops when we send them into harm's way, and to care for them and their families. The First Lady and I understand the gravity of this promise personally, and we have made supporting service members, veterans, their families, caregivers, and survivors a top priority for my Administration.

That is why the First Lady has committed to relaunching the Joining Forces initiative, mobilizing all Americans to continue the national commitment to support and engage our military families. By raising awareness about the unique aspects of military life and working toward solutions to its challenges, my Administration will continue to support military children and will help ensure that they have opportunities to grow and live out their dreams.

Observing the Month of the Military Child demonstrates our support for military children who make daily sacrifices so their parents can keep our Nation safe. Military-connected children are strong and resilient, and we must match their strength with a commitment to provide the full support of our communities and our Government. I encourage all Americans to serve them as well as they serve us.

NOW, THEREFORE, I, JOSEPH R. BIDEN JR., President of the United States of America, by virtue of the authority vested in me by the Constitution and the laws of the United States, do hereby proclaim April 2021 as the Month of the Military Child. I call upon the people of the United States to honor military children with appropriate ceremonies and activities.

IN WITNESS WHEREOF, I have hereunto set my hand this thirty-first day of March, in the year of our Lord two thousand twenty-one, and of the Independence of the United States of America the two hundred and forty-fifth.

[FR Doc. 2021-07165

Filed 4-5-21; 8:45 am]

Billing code 3295-F1-P